GENERAL SERVICES ADMINISTRATION

[OMB Control No. 3090-0262; Docket No. 2021-0001; Sequence No. 4]

Submission for OMB Review General Services Administration Acquisition Regulation; Identification of Products With Environmental Attributes

AGENCY: Office of Acquisition Policy, General Services Administration (GSA).

ACTION: Notice of request for comments regarding an extension of an existing OMB clearance.

SUMMARY: Under the provisions of the Paperwork Reduction Act the Regulatory Secretariat Division will be submitting to the Office of Management and Budget (OMB) a request to review and approve an extension of an information collection requirement regarding identification of products with environmental attributes.

DATES: Submit comments on or before: July 26, 2021.

ADDRESSES: Written comments and recommendations for this information collection should be sent within 30 days of publication of this notice to www.reginfo.gov/public/do/PRAMain. Find this particular information collection by selecting “Currently under Review—Open for Public Comments” or by using the search function.

FOR FURTHER INFORMATION CONTACT: Ms. Adina Torberntsson, Program Analyst, General Services Acquisition Policy Division, GSA, via email to adina.torberntsson@gsa.gov or by phone at (303) 236-2677.

SUPPLEMENTARY INFORMATION:

A. Purpose

The GSA requires contractors holding Multiple Award Schedule Contracts to identify in their GSA price lists those products that they market commercially that have environmental attributes in accordance with GSAR clause 552.238-78. The identification of these products will enable Federal agencies to maximize the use of these products and meet the responsibilities expressed in statutes and executive order.

B. Annual Reporting Burden

Respondents: 744.

Responses per Respondent: 1.

Annual Responses: 744.

Hours per Response: 1.

Total Burden Hours: 744.

C. Public Comments

A notice published in the Federal Register at 86 FR 16369 on March 29, 2021. No comments were received.

Obtaining Copies of Proposals: Requesters may obtain a copy of the information collection documents from the Regulatory Secretariat Division by calling 202-501-4755 or emailing GSARegSec@gsa.gov. Please cite OMB Control No. 3090-0262, Identification of Products with Environmental Attributes, in all correspondence.

Jeffrey A. Koses,
Senior Procurement Executive, Office of Acquisition Policy, Office of Government-wide Policy.

[FR Doc. 2021-13062 Filed 6-23-21; 8:45 am]

BILLING CODE 6820-61-P